DEPARTMENT OF COMMERCE

Foreign-Trade Zones Board

[B-20-2022]

Foreign-Trade Zone (FTZ) 46—Cincinnati, Ohio; Authorization of Production Activity; Patheon Pharmaceuticals, Inc. (Pharmaceutical Products); Cincinnati, Ohio

On May 19, 2022, Patheon Pharmaceuticals, Inc. submitted a notification of proposed production activity to the FTZ Board for its facilities within Subzone 46K, in Cincinnati, Ohio.

The notification was processed in accordance with the regulations of the FTZ Board (15 CFR part 400), including notice in the Federal Register inviting public comment (87 FR 31982, May 26, 2022). On September 16, 2022, the applicant was notified of the FTZ Board's decision that no further review of the activity is warranted at this time. The production activity described in the notification was authorized, subject to the FTZ Act and the FTZ Board's regulations, including section 400.14.

Dated: September 16, 2022.
Elizabeth Whiteman,
Acting Executive Secretary.

[FR Doc. 2022-20428 Filed 9-20-22; 8:45 am]

BILLING CODE 3510-DS-P